DEPARTMENT OF TRANSPORTATION

Federal Aviation Administration

14 CFR Part 71

[Docket No. FAA-2020-0925; Airspace Docket No. 20-ANM-18]

RIN 2120-AA66

Modification of Class D and Class E Airspace; Tacoma Narrows Airport, WA

AGENCY: Federal Aviation Administration (FAA), DOT.

ACTION: Final rule.

SUMMARY: This action modifies the Class D airspace, Class E surface airspace, and Class E airspace extending upward from 700 feet above ground level (AGL) at Tacoma Narrows Airport, Tacoma, WA. A review of the airspace was initiated due to corresponding reviews at McChord Field (Joint Base Lewis-McChord) and Gray AAF (Joint Base Lewis-McChord). All three locations were evaluated at the same time due to their close proximity to one another and operational interdependence. After a review of the airspace, the FAA found it necessary to modify the existing airspace for the safety and management of Instrument Flight Rules (IFR) operations at this airport.

DATES: Effective 0901 UTC, January 27, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov//air_traffic/publications/. For further information, you can contact the Airspace Policy Group, Federal Aviation Administration, 800 Independence Avenue SW, Washington, DC 20591; telephone: (202) 267-8783. FAA Order JO 7400.11F is also available for inspection at the National Archives and Records Administration (NARA). For information on the availability of FAA Order JO 7400.11F at NARA, email fr.inspection@nara.gov or go to https://www.archives.gov/federal-register/cfr/ibr-locations.html.

FOR FURTHER INFORMATION CONTACT: Richard Roberts, Federal Aviation Administration, Western Service Center, Operations Support Group, 2200 S 216th Street, Des Moines, WA 98198; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, part A, Subpart I, Section 40103. Under that section, the FAA is charged with prescribing regulations to assign the use of airspace necessary to ensure the safety of aircraft and the efficient use of airspace. This regulation is within the scope of that authority as it would modify the Class D airspace, Class E surface airspace, and Class E airspace extending upward from 700 feet above ground level to support IFR operations at Tacoma Narrows Airport, Tacoma, WA.

History

The FAA published a notice of proposed rulemaking in the Federal Register (85 FR 71289; November 9, 2020) for Docket No. FAA-2020-0925 to modify the Class D and Class E airspace at Tacoma Narrows Airport, Tacoma, WA. Interested parties were invited to participate in this rulemaking effort by submitting written comments on the proposal to the FAA. One comment in support of the action was received.

Class D and Class E airspace designations are published in paragraphs 5000, 6002, 6005 of FAA Order JO 7400.11F, dated August 10, 2021, and effective September 15, 2021, which is incorporated by reference in 14 CFR 71.1. The Class D and Class E airspace designations listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

The FAA is amending 14 CFR part 71 by modifying the lateral boundaries of the Class D and Class E surface airspace and the Class E airspace extending upward from 700 feet AGL at Tacoma Narrows Airport, Tacoma, WA. A review of the airspace was initiated due to corresponding reviews at McChord Field (Joint Base Lewis-McChord) and Gray AAF (Joint Base Lewis-McChord). All three locations were evaluated at the same time due to their close proximity to one another and operational interdependence. The airspace at McChord Field and Gray AAF (Joint Base Lewis-McChord) were reviewed due to three actions. The FAA decommissioned the McChord VORTAC because the U.S. Air Force was no longer going to maintain the NAVAID. The U.S. Air Force requested the elimination of previously excluded airspace, which required an airspace review to evaluate that request, and the Class D airspace at McChord Field and Gray AAF (Joint Base Lewis-McChord) had not been examined in the previous two years, as required by FAA Orders.

The Tacoma Narrows Airport Class D and Class E surface airspace that extends to 5.3 miles south of the airport would be removed as it is no longer needed for arrivals or departures.

In addition, the Class E airspace extending upward from 700 feet AGL within 4 miles each side of the 007° and 187° bearings from the Tacoma Narrows Airport extending to 8 miles north and 7 miles south of the airport will be shortened to 6 miles, respectively.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

ANM WA D Tacoma, WA [Amended]

Tacoma Narrows Airport, WA

(Lat. 47°16′05″ N, long. 122°34′41″ W)

McChord Field (Joint Base Lewis-McChord), WA

(Lat. 47°08′17″ N, long. 122°28′34″ W)

That airspace extending upward from the surface to and including 2,800 feet MSL within a 4-mile radius of Tacoma Narrows Airport, excluding that airspace within the McChord Field (Joint Base Lewis-McChord) Class D airspace area. This Class D airspace area is effective during the specific dates and times established in advance by a Notice to Airmen. The effective date and time will thereafter be continuously published in the Chart Supplement.

Paragraph 6002 Class E Airspace Areas Designated as Surface Areas.

* * * * *

ANM WA E2 Tacoma, WA [Amended]

Tacoma Narrows Airport, WA

(Lat. 47°16′05″ N, long. 122°34′41″ W)

McChord Field (Joint Base Lewis-McChord), WA

(Lat. 47°08′17″ N, long. 122°28′34″ W)

That airspace extending upward from the surface within a 4-mile radius of Tacoma Narrows Airport, excluding that airspace within the McChord Field (Joint Base Lewis-McChord) Class D airspace area. This Class D airspace area is effective during the specific dates and times established in advance by a Notice to Airmen. The effective date and time will thereafter be continuously published in the Chart Supplement.

6005 Class E Airspace Areas Extending Upward From 700 Feet or More Above the Surface of the Earth.

* * * * *

ANM WA E5 Tacoma, WA [Amended]

Tacoma Narrows Airport, WA

(Lat. 47°16′05″ N, long. 122°34′41″ W)

That airspace extending upward from 700 feet above the surface within 4 miles each side of the 007° bearing from the Tacoma Narrows Airport extending to 6 miles north of the airport, and within 4 miles each side of a 187° bearing from the airport extending to 6 miles south of the airport.

Issued in Des Moines, Washington, on November 23, 2021.
B.G. Chew,
Acting Group Manager, Operations Support Group, Western Service Center.

[FR Doc. 2021-25937 Filed 11-29-21; 8:45 am]

BILLING CODE 4910-13-P